FEDERAL EMERGENCY MANAGEMENT AGENCY

44 CFR Part 67

[Docket No. FEMA-B-7421]

Proposed Flood Elevation Determinations

AGENCY: Federal Emergency Management Agency (FEMA).

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Matthew B. Miller, P.E., Chief, Hazards Study Branch, Federal Insurance and Mitigation Administration, FEMA, 500 C Street SW., Washington, DC 20472, (202) 646-3461, or (e-mail) matt.miller@fema.gov.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Acting Administrator, Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4.

2. The tables published under the authority of § 67.4 are proposed to be amended as follows:

State | City/town/county | Source of flooding | Location | #Depth in feet above ground. Elevation in feet. (NGVD) # Elevation in feet. (MSL 1972): Existing | #Depth in feet above ground. Elevation in feet. (NGVD) # Elevation in feet. (MSL 1972): Modified
Alaska | Anchorage (Municipality) Anchorage Division | Alyeska Creek | At Mount Hood Drive, Approximately 70 feet Upstream of Olympic Circle Entrance | None | *121
|  |  |  | None | *335
#Depth in feet above ground.
Maps are available for inspection at 4700 South Bragg Street, Anchorage, Alaska.
Send comments to The Honorable George Wuerch, Mayor, Municipality of Alaska, P.O. Box 196650, Anchorage, Alaska 99519-6650.
Hawaii | Maui County | Unnamed Stream at Kuau Point | Approximately 720 feet downstream of Hana Highway | None | *14
|  |  | Approximately 750 feet upstream of Hana Highway | None | *29
#Depth in feet above ground.
Maps are available for inspection at the Department of Planning, 250 South High Street, Wailuku, Hawaii.
Send comments to The Honorable James “Kimo” Apana, Mayor, Maui County, 200 South High Street, Wailuku, Hawaii 96793.
Missouri | City of De Soto | Joachim Creek | Approximately 3,500 feet downstream of the New State Highway 110 Bridge | *472 | *474
|  |  | Approximately 550 upstream of the Highway E | *525 | *525
#Depth in feet above ground.
Maps are available for inspection at City of De Soto, City Hall, 17 Boyd Street, De Soto, Missouri.
Send comments to The Honorable Werner Stichling, Mayor, City of De Soto, City Hall, 17 Boyd Street, De Soto, Missouri 63020.
Missouri | Jefferson County | Joachim Creek | Approximately 3,500 feet downstream of the New State Highway 110 Bridge | None | *474
|  |  | Approximately 1,700 feet upstream of the County Highway E | *527 | *528
#Depth in feet above ground.
Maps are available for inspection at Jefferson County, Building and Zoning Commission, 300 Second Street, Hillsboro, Missouri.
Send comments to The Honorable Samuel J. Rauls, Presiding Commissioner, P.O. Box 100, Hillsboro, Missouri 63050.
New Mexico | City of Farmington, San Juan County | Animas River | Approximately 1,300 feet downstream of Miller Avenue | None | +5,276
|  |  | Just upstream of Broadway Street | None | +5,304
|  |  | Approximately 4,300 feet upstream of Browning Parkway | None | +5,361
|  | San Juan River | Approximately 8,000 feet downstream of Route 371 | None | +5,223
|  |  | Approximately 2,200 feet downstream of Route 371 | None | +5,242
|  | Wyper Arroyo | Approximately 100 feet upstream of U.S. Highway 550 | None | +5,499
|  |  | Just upstream of confluence of Wyper Arroyo Tributary | None | +5,599
|  |  | Approximately 3,800 feet upstream of confluence of Wyper Arroyo of Tributary | None | +5,668
|  | Wyper Arroyo Tributary | Just upstream of confluence with Wiper Arroyo | None | +5,559
|  |  | Approximately 3,450 feet upstream of the confluence with Wiper Arroyo | None | +5,662
|  | Carl Arroyo | Approximately 1,700 feet downstream of U.S. Route 550 | None | +5,451
|  |  | Just upstream of Winnifred Drive | None | +5,535
|  |  | Approximately 3,900 feet Upstream of Winnifred Drive | None | +5,635
|  | Hood Arroyo | Approximately 1,800 feet downstream of Hubbard Street | None | +5,403
|  |  | Just upstream of Pinon Hills Boulevard | None | +5,530
|  |  | Approximately 850 feet Upstream of Hogan Avenue | None | +5,714
|  | Hood Arroyo Tributary | Just upstream of Hogan Avenue | None | +5,640
|  |  | Approximately 4,200 feet upstream of Hogan Avenue | None | +5,820
|  | Porter Arroyo | Approximately 1,300 feet downstream of Windsor Drive | None | +5,509
|  |  | Just upstream of confluence of Porter Arroyo Tributary C | None | +5,622
|  |  | Approximately 4,200 feet upstream of North College Road | None | +5,796
|  | Porter Arroyo Tributary C | At confluence with Porter Arroyo | None | +5,620
|  |  | Approximately 1,300 feet upstream of confluence with Porter Arroyo | None | +5,654
|  | Porter Arroyo Tributary B | At confluence with Porter Arroyo | None | +5,645
|  |  | Approximately 1,100 feet upstream of confluence with Porter Arroyo | None | +5,682
|  | Porter Arroyo Tributary A | At confluence with Porter Arroyo near North College Road | None | +5,670
|  |  | Approximately 2,100 feet upstream of confluence with Porter Arroyo | None | +5,752
|  | Butler Arroyo | Just upstream of 30th Street | None | +5,508
|  |  | Approximately 4,000 feet upstream of 30th Street | None | +5,606
|  | Dustin Arroyo | Approximately 400 feet downstream of 30th Street | None | +5,489
|  |  | Approximately 700 feet upstream of Cerrillos Drive | None | +5,667
|  | Farmers Mutual Ditch | Approximately 300 feet downstream of Westland Park Drive | None | +5,227
|  |  | Approximately 1,500 feet Westland Park Drive, near its divergence from San Juan River | None | +5,236
|  | Westland Park Drive Runoff | Approximately 800 feet downstream of Westland Park Drive | None | +5,225
|  |  | Approximately 150 feet upstream of Westland Park Drive | None | +5,235
#Depth in feet above ground.
Maps are available for inspection at City Hall, 800 Municipal Drive, Farmington, New Mexico.
Maps are available for inspection at the Office of the Building Inspector, 100 South Oliver, Aztec, New Mexico.
Send Comments to The Honorable William E. Stanley, Mayor, City of Farmington, 800 Municipal Drive, Farmington, New Mexico 87401.
Send comments to The Honorable Steve Neville, Chairman, San Juan County, Board of Commissioners, 100 South Oliver, Aztec, New Mexico 87410.
New Mexico | Chaves County (Unincorporated) | Rio Hondo River Areas | At confluence with South Berrendo Creek | *3,510 | *3,507
|  |  | Approximately 9,500 feet upstream of Roswell Relief Route | None | *3,704
#Depth in feet above ground.
Maps are available for inspection at Chaves County Courthouse, Planning Department, 401 North Main Street, Roswell, New Mexico.
Send comments to The Honorable Herbert Quintata, Chaves County Manager, P.O. Box 1817, Roswell, New Mexico 88201.
New Mexico | City of Roswell | Rio Hondo River | Approximately 1,550 feet downstream of Atkinson Avenue | None | +3,544
|  |  | Approximately 3,000 feet upstream of Sunset Avenue | #2 | +3,620
#Depth in feet above ground.
Maps are available for inspection at City Hall, Engineering Department, 401 North Main Street, Roswell, New Mexico.
Send comments to Mayor Bill Owen, 425 North Richardson Avenue, Roswell, New Mexico 88201.
Oklahoma | City of Yukon | North Canadian River Tributary A | Approximately 3,000 feet below Von Elm Place | None | *1,260
|  |  | Approximately 500 feet downstream of U.S. Highway 66 | *1,284 | *1,285
|  | Main Stem Turtle Creek | Approximately 3,500 feet downstream of U.S. Highway 66 | *1,271 | *1,271
|  |  | Just upstream of U.S. Highway 66 | *1,286 | *1,286
|  |  | At confluence of West Branch Turtle Creek and Middle Branch Turtle Creek | *1,293 | *1,293
|  | Middle Branch of Turtle Creek | At confluence with Main Stem Turtle Creek | *1293 | *1293
|  |  | Just downstream upstream of Vandament Avenue | *1,310 | *1,310
|  |  | Approximately 1,500 feet upstream of Vandament Avenue | *1,316 | *1,318
|  |  | Approximately 3,800 feet upstream of Vandament Avenue | None | *1,332
|  | East Branch of Turtle Creek | At confluence with Main Stem Turtle Creek | *1,277 | *1,277
|  |  | At confluence of Cornwell Branch | *1,287 | *1,288
|  |  | Just downstream of Chicago Rock Island and Pacific Railroad | *1,296 | *1,297
|  |  | Approximately 300 feet upstream of Vandament Avenue | None | *1,322
|  | West Branch of Turtle Creek | At confluence with Main Stem Turtle Creek | *1,293 | *1,293
|  |  | Just upstream of Yukon Avenue | *1,311 | *1,311
|  |  | Approximately 1,500 feet upstream of Yukon Avenue | None | *1,321
|  | Cornwell Branch of East Branch Turtle Creek | At confluence with East Branch Turtle Creek | None | *1,288
|  |  | At intersection of Yukon Avenue and Czech Hall Road | None | *1,298
|  |  | Approximately 270 feet upstream of the intersection of Bass Avenue and Czech Hall Road | None | *1,319
|  | Holly Branch of Middle Branch Turtle Creek | At confluence with Middle Branch Turtle Creek | None | *1,314
|  |  | Approximately 1,400 feet upstream of Holly Avenue | None | *1,338
|  | North Canadian River Tributary B | Approximately 900 feet downstream of Main Street (U.S. Highway 66) | None | *1,286
|  |  | Approximately 1,350 feet upstream of Main Street (U.S. Highway 66) | None | *1,297
|  | North Canadian River Tributary B, West Branch | At confluence with North Canadian River Tributary B | None | *1,291
|  |  | Approximately 1,150 feet upstream of confluence with North Canadian River Tributary B | None | *1,302
|  | North Canadian River Tributary C | Approximately 1,100 feet downstream of Main Street (U.S. Highway 66) | None | *1,286
|  |  | Approximately 3,200 feet upstream of Main Street (U.S. Highway 66) | None | *1,309
|  | North Canadian River Tributary C, West Branch 1 | At confluence with North Canadian River Tributary C | None | *1,289
|  | Just downstream of Oil Field Road | None | *1,322
|  | North Canadian River Tributary C, West Branch 2 | At confluence with North Canadian River Tributary C | None | *1,306
|  |  | Just downstream of Church Hill Road | None | *1,332
#Depth in feet above ground.
Maps are available for inspection at 528 West Main Street, Yukon, Oklahoma.
Send comments to The Honorable Steve Friesen, Mayor, City of Yukon, P.O. Box 850500, Yukon, Oklahoma 73085.
Oregon | Talent (City) Jackson County | Wagner Creek | At confluence with Bear Creek | *1,562 | *1,562
|  |  | Just upstream of Rouge Valley Highway 99 | *1,590 | *1,593
|  |  | Just downstream of Rapp Road | None | *1,652
#Depth in feet above ground.
Maps are available for inspection City Hall, P.O. Box 445, Talent Oregon.
Send comments to The Honorable Marian Telerski, Mayor, City of Talent, P.O. Box 445, Talent Oregon 97450.
Utah | Unincorporated Areas of Utah County | Jordan River | Approximately 3,100 feet downstream of the Golf Cart Bridge at Camp Williams Military Reservation | *4,490 | *4,491
|  |  | At Cedar Fort Road | *4,494 | *4,493
|  |  | Approximately 1,400 feet upstream of Saratoga Road | *4,495 | *4,494
#Depth in feet above ground.
Maps are available for inspection at the County Public Works Building, 2855 South State Street, Provo, Utah.
Send comments to The Honorable Gary Herbert, Chairman, Utah County Board of Commissioners, County Administration Building, 100 East Center Street, Room 2300, Provo, Utah 84606.
Utah | City of Saratoga Springs | Jordan River | Approximately 3,100 feet downstream of Saratoga Road | *4,495 | *4,493
|  |  | Approximately 1,400 feet upstream of Saratoga Road | *4,495 | *4,494
#Depth in feet above ground.
Maps are available for inspection at City Hall, City Manager's office, 2015 South Redwood, Lehi, Utah.
Send comments to The Honorable Tim Parker, Mayor, City of Saratoga Springs, 2015 South Redwood Road, Saratoga Springs, Utah 84043.
Utah | City of Lehi | Jordan River | Approximately 1,500 feet downstream of the Golf Cart Bridge at Camp Williams Military Reservation | *4,490 | *4,491
|  |  | Approximately 1,500 feet downstream of Saratoga Road | *4,494 | *4,493
#Depth in feet above ground.
Maps are available for inspection at the Building and Planning Department, 99 West Main Street, Lehi, Utah.
Send comments to The Honorable Kenneth Greenwood, Mayor, City of Lehi, City Hall, 153 North 100 East, Lehi, Utah 84043.
Washington | Chelan County (Unincorporated Areas) | Wenatchee River | At confluence with Chumstick Creek | *1,078 | *1,079
#Depth in feet above ground.
Maps are available for inspection at County Planning Department, 411 Washington Street, Wenatchee, Washington.
Send comments to The Honorable John Hunter, Chairman, Chelan County Board of Commissioners, County Courthouse, 350 Orondo Street, Wenatchee, Washington 98801.
Washington | City of Leavenworth | Wenatchee River | At confluence with Icicle Creek | *1,111 | *1,111
#Depth in feet above ground.
Maps are available for inspection at City Hall, Department of Community Development, 70 Highway 2, Leavenworth, Washington.
Send comments to The Honorable William Bauer, Mayor, City of Leavenworth, City Hall, P.O. Box 287, Leavenworth, Washington 98826.
Washington | Skokomish Indian Tribe | Skokomish River | Just downstream of State Route 106 | None | *16
|  |  | Approximately 3,000 feet upstream of U.S. Route 101 | None | *31
#Depth in feet above ground.
Maps are available for inspection at Natural Resources Office, North 541 Tribal Center Road, Shelton, Washington.
Send comments to The Honorable Denny Hurtado, Chairman, Skokomish Tribal Council, North 80 Tribal Center Road, Shelton, Washington 98584.

(Catalog of Federal Domestic Assistance No. 83.100, “Flood Insurance.”)
Dated: November 5, 2001.
Robert F. Shea,
Acting Administrator, Federal Insurance and Mitigation Administration.

[FR Doc. 01-28392 Filed 11-9-01; 8:45 am]

BILLING CODE 6718-04-P